DEPARTMENT OF HEALTH AND HUMAN SERVICES

Centers for Disease Control and Prevention

[Program Announcement 00135]

Public Health Laboratory Sciences Training Program for Hispanic and Native American Students Notice of Availability of Funds

A. Purpose

The Centers for Disease Control and Prevention (CDC) announces the availability of fiscal year (FY) 2000 funds for a cooperative agreement program for establishing a Public Health Laboratory Sciences Training Program for Hispanic and Native American Students. CDC is committed to achieving the health promotion and disease prevention objectives of “Healthy People 2010”, a national activity to reduce morbidity and mortality and improve the quality of life. This announcement is related to the focus areas of Environmental Health, Nutrition and Overweight, Tobacco Use, Substance Abuse, Diabetes, Heart Disease and Stroke, Cancer, Maternal, Infant and Child Health, and Education and Community-Based Programs. For the conference copy of “Healthy People 2010”, visit the internet site: http://www.health.gov/healthypeople.

The purpose of the program is to introduce Hispanic and Native American students to opportunities in public health and laboratory science through education and training, to include students from undergraduate, graduate, and post-doctoral levels.

B. Eligible Applicants

Applications may be submitted by public and private universities or colleges from the United States and its territories, offering undergraduate and postgraduate academic programs in the physical and/or biomedical sciences, and leading to degrees at the bachelors, masters, and doctorate levels.

Note: Public Law 104-65 states that an organization described in section 501(c)(4) of the Internal Revenue Code of 1986 that engages in lobbying activities is not eligible to receive Federal funds constituting an award, grant, cooperative agreement, contract, loan, or any other form.

C. Availability of Funds

Approximately $150,000 is available in FY 2000 to fund one award. It is expected that the award will begin on or about September 30, 2000, and will be made for a 12-month budget period within a project period of up to 5 years. Funding estimates may change.

Continuation awards within an approved project period will be made on the basis of satisfactory progress as evidenced by required reports and the availability of funds.

Use of Funds

Funds may be used for activities which support the goals and objectives of the fellowship program including travel expenses for program faculty and students for orientation and training, and to attend certain professional meetings for recruitment. Funds may be used for reporting results of fellowship research and the preparation and distribution of material to promote and announce the availability of this fellowship program. Funds may also be used to offset a portion of salaries of the recipient institution's faculty, staff, and graduate teaching assistants who spend time in support of the technical and administrative aspects of this program. Funds may be provided for student stipends, with payment scales determined by the recipient, based on the prior training, education and experience of the Fellow.

Funds may not be used for the direct support of faculty research projects except for those aspects of such projects which directly benefit the specific training objectives of Fellows.

D. Programmatic Interest

The mission of the funding agency includes the application of analytical laboratory procedures to measure substances in biological samples from humans. The purpose of these analyses is to assess human exposure to toxic substances, health effects from the exposure, risk factors for diseases, and effectiveness of public health interventions. In achieving this mission, the laboratory techniques and areas of scientific investigation include:

1. Sample preparation techniques

2. Liquid or gas chromatography

3. Radio-immunoassay (RIA), enzyme linked immunoassay (EIA), or other immuno-assay techniques

4. Polymerase chain reaction (PCR) and other molecular biology techniques

5. Atomic absorption and atomic emission techniques

6. Mass spectroscopic techniques

7. Wet chemistry and UV-Visible and Infared spectroscopic techniques

8. Analytical method development and evaluation procedures

9. Routine analytical procedures and quality control

10. Environmental chemistry, environmental health, and toxicology

11. Nutritional Biochemistry, Diabetes, Cancer, Smoking and health l2. Introduction to epidemiology from a laboratory perspective

13. Other laboratory techniques and scientific disciplines as appropriate and necessary

E. Program Requirements

In conducting activities to achieve the purpose of this program, the recipient will be responsible for the activities under 1. Recipient Activities, and CDC will be responsible for the activities under 2. CDC Activities.

1. Recipient Activities

a. Establish and manage a comprehensive program to recruit, select, compensate, mentor, and guide Native American and Hispanic students in the sciences for participation in a public health laboratory sciences training program. (The target number of students for this project is up to 6 per year. Typical fellowships at the undergraduate level will be for a maximum of 4 months. At the post-baccalaureate level (including the post-Masters and the post-Doctorate levels) typical fellowships will be for one year, renewable annually for a maximum of three years. Appointments of less than one year may be made under special circumstances).

b. Provide a senior staff or faculty member to serve as fellowship director, who will be responsible for establishing and/or maintaining close working relationships with students.

c. Identify students with interest and aptitude in specific scientific disciplines such as: chemistry and all sub-specialties of chemistry (clinical, analytical, and organic, etc.), biochemistry and all related sub-specialties (toxicology, neurotoxicology, biosensors, etc.), molecular biology, genetics, biostatistics, and data acquisition and instrument control systems design.

d. Develop new, or modify existing, undergraduate and graduate level curricula in relevant academic departments of the recipient institution to complement this fellowship program.

e. Establish working relationships with community colleges and secondary schools that serve significant populations of Native American and Hispanic students.

f. Develop curricula that provide training in Environmental Chemistry and Environmental Health.

g. Provide guidance to the project mentors on the unique cultural or educational needs of potential Fellows since these needs may have an impact on the success and retention of the students in this program.

h. Provide preliminary training to potential Fellows in chemical and biological laboratory safety, including universal precautions for working with biological samples, use of protective equipment, work-site performance expectations, presentation skills, basic principles of laboratory quality control, and other training which helps build student confidence for encountering the differences between academic settings and the high-throughput laboratory setting they will encounter during the CDC-based portion of their fellowship and in future employment in the sciences.

2. CDC Activities

a. Provide assistance, if needed, in the development of relevant curricula.

b. Provide practical and relevant laboratory training, and work experience opportunities at the CDC Environmental Health Laboratory facilities in Atlanta, Georgia.

c. Provide training oversight, coordination, and guidance for the Fellows and their selected research projects. (Refer to Programmatic Interest section of this announcement.)

F. Application Content

Use the information in the Program Requirements, Other Requirements, and Evaluation Criteria sections to develop the application content. The applicant should include as part of the narrative or as a two to five page report at the beginning addressing the following information:

1. Serve local populations of at least 100,000 Native Americans and/or Hispanics.

2. Annually enroll a total of at least 10,000 graduate and undergraduate students, with total enrollment by Hispanic, and Native Americans constituting at least 40% of the total undergraduate student body.

3. Have a demonstrated record of success in recruiting and retaining minority undergraduate science students through completion of their bachelors degree and continuation of post graduate training. (Please provide recent historical data on matriculation, retention, graduation, and post-graduate placement of minority students where available).

4. Evidence of past successful activities which illustrate creativity and originality in establishing relationships with local community colleges serving Native American and Hispanic populations.

5. An academic program and supporting faculty recognized in analytical, biomedical, and/or environmental chemistry.

6. Provide plans for recruitment and outreach for Fellows to include the process of establishing partnerships with community(ies) and recognition of mutual benefits beyond those already demonstrated.

7. Present estimates of the level of participation in the program in the first year and projections for future years.

Your application will be evaluated on the criteria listed, so it is important to follow them in laying out your program plan. The narrative should be no more than twenty double-spaced pages printed on one side, with one inch margins, and unreduced font plus pre-printed attachments. The application must be submitted unstapled and unbound.

G. Submission and Deadline

Submit the original and two copies of PHS-5161-1 (OMB Number 0937-0189). Forms are in the application kit.

On or before July 21, 2000, submit the application to the Grants Management Specialist identified in Where to Obtain Additional Information section of this announcement.

Deadline: Applications shall be considered as meeting the deadline if they are either:

(a) Received on or before the deadline date; or

(b) Sent on or before the deadline date and received in time for submission to the Objective Review Panel. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

H. Evaluation Criteria

Each application will be evaluated individually against the following criteria by an independent review group appointed by CDC.

1. Understanding of the Objectives of the Project (20 percent)

The extent to which the applicant demonstrates an understanding of the nature of the problem to be addressed. This specifically includes description of the unique training needs of Native American and Hispanic science students at the undergraduate and graduate levels and cultural barriers which may discourage them from pursuing academic programs in the sciences, and cultural or other factors which may affect the retention of Fellows in the program. Applicant should provide estimates (and sources of estimates) of the demographics of Native American and Hispanic enrollment in scientific higher education in the geographic areas served by the applicant and factors which may affect the validity of such estimates.

2. Technical Approach (25 percent)

The extent to which the applicant describes in detail the academic institution's component of the proposed Fellowship program including, but not limited to a description of:

a. An overview of the goals and objectives of the fellowship program.

b. A comprehensive program to recruit, select, compensate, mentor, and guide Native American and Hispanic students in the sciences for participation in a public health laboratory sciences training program.

c. Activities to establish close working relationships with students.

d. The institution's undergraduate and graduate level curricula in relevant academic departments that may be reasonably expected to integrate with the purpose of this fellowship program.

3. Ability To Carry Out the Project (25 percent)

The extent to which the applicant provides evidence of ability to carry out the proposed project and the extent to which the applicant demonstrates capability to achieve the objectives of the proposed program. This may include plans, time-lines, approaches, methods for conducting such a fellowship program, and may include collaborating with other universities or other health research agencies.

4. Personnel (15 percent)

The extent to which professional personnel involved in this project are qualified, including evidence of experience similar to this project.

5. Collaboration (5 percent)

The extent to which the applicant demonstrates the ability to collaborate and/or form partnerships with community colleges and secondary schools serving significant populations of Hispanic and Native American students.

6. Plans for Administration (10 percent)

The extent to which the applicant describes the plans for administering the project.

7. Budget (Not Scored)

The extent to which the applicant provides a detailed budget justification which is reasonable and consistent with the objectives of this program.

I. Other Requirements

Technical Reporting Requirements

Provide CDC with original plus two copies of

1. semi-annual progress reports, no more than 30 days after the end of the report period.

2. financial status report, no more than 90 days after the end of the budget period; and

3. final financial and performance reports, no more than 90 days after the end of the project period. Send all reports to the Grants Management Specialist identified in the “Where to Obtain Additional Information” section of this announcement.

The following additional requirements are applicable to this program. For a complete description of each, see Attachment I in the application kit.

AR-10 Smoke-Free Workplace Requirements

AR-11 Healthy People 2010

AR-12 Lobbying Restrictions

AR-16 Security Clearance Requirement

Additional information can be attained as follows:

Executive Order 13021—Tribal Colleges—http://www.aipc.osmre.gov/EO13021.htm

Executive Order 12900—Excellence in Education for Hispanic Americans—http://www.ioc.army.mil/others/minority/ex12900.HTML

J. Authority and Catalog of Federal Domestic Assistance Number

This program is authorized under the Public Health Service Act, Section 301(a) and 317 [42 U.S.C. 241(a) and 247(b) as amended]. The Catalog of Federal Domestic Assistance number is 93.283.

K. Where To Obtain Additional Information

This and other CDC Announcements can be found on the CDC homepage Internet address—http://www.cdc.gov. Click on “Funding” then “Grants and Cooperative Agreements”. To receive additional written information and to request an application kit, call 1-888-Grants4 (1-888-472-6874). You will be asked to leave your name and address and will be instructed to identify the Announcement number of interest.

If you have questions after reviewing the contents of all the documents, business management technical assistance may be obtained from: Mattie B. Jackson, Grants Management Specialist, Grants Management Branch, Procurement and Grants Office, Centers for Disease Control and Prevention (CDC),Room 3000, 2920 Brandywine Road, Atlanta, GA 30341-4146, Telephone: (770) 488-2718, Email address: mij3@cdc.gov.

For program technical assistance, contact: Dayton T. Miller, Ph.D., National Center for Environmental Health, Centers for Disease Control and Prevention, 4770 Buford Highway, NE (F-18), Atlanta, Georgia 30341-3724, Telephone: (770) 488-4452, Email address: dtm1@cdc.gov.

Dated: May 19, 2000.
John L. Williams,
Director, Procurement and Grants Office, Centers for Disease Control and Prevention (CDC).

[FR Doc. 00-13131 Filed 5-24-00; 8:45 am]

BILLING CODE 4163-18-P